NATIONAL AERONAUTICS AND SPACE ADMINISTRATION

[Notice (02-001)]

U.S. Centennial of Flight Commission

AGENCY: National Aeronautics and Space Administration.

ACTION: Notice of meeting.

SUMMARY: In accordance with the Federal Advisory Committee Act, Pub. L. 92-463, as amended, the National Aeronautics and Space Administration announces a meeting of the U.S. Centennial of Flight Commission.

DATES: Wednesday, January 30, 2002, 1:00 p.m. to 5:00 p.m.

ADDRESSES: National Air and Space Museum, Independence Avenue, SW between 6th and 7th Streets, Directors Conference Room. Please check in at the security desk to be cleared into the building. Please call Ms. Beverly Farmarco at 202/358-1903 if you plan to attend so your name can be added to the attendees list.

FOR FURTHER INFORMATION CONTACT: Ms. Beverly Farmarco, Code I, National Aeronautics and Space Administration, Washington, DC 20546, 202/358-1903.

SUPPLEMENTARY INFORMATION: The meeting will be open to the public up to the seating capacity of the room. The agenda for the meeting is as follows

—Report from Carter Ryley Thomas

—Budget Discussions

—Next First Flight Centennial Federal Advisory Board Meeting

—What the Commission Wants Accomplished in FY 2002

—Centennial Partner Deliberations

—Education Program

It is imperative that the meeting be held on this date to accommodate the scheduling priorities of the key participants. Visitors will be requested to sign a visitor's register.

Sylvia K. Kraemer,
Advisory Committee Management Officer, National Aeronautics and Space Administration.

[FR Doc. 02-316 Filed 1-4-02; 8:45 am]

BILLING CODE 7510-01-P